DEPARTMENT OF JUSTICE

[AAG/A Order No. 294-2002]

Privacy Act of 1974; Removal of a System of Records

Pursuant to the provisions of the Privacy Act 1974 (5 U.S.C. 552a), notice is given that the Department of Justice, Office of the Pardon Attorney (OPA) is removing a system of records, entitled “Miscellaneous Correspondence File, OPA-002.” This system of records was last published February 3, 1993 (58 FR 6981).

The reason for the removal of the notice for OPA-002 is that this system of records notice is being incorporated into the notice for the “Correspondence Management System (CMS) for the Department of Justice (DOJ), DOJ-003,” published June 4, 2001 (66 FR 29992), with correction notice published June 29, 2001 (66 FR 34743). The final rule for DOJ-003 was published August 8, 2001 (66 FR 41445), with correction notice published August 17, 2001 (66 FR 43308).

A notice to modify DOJ-003, with the addition of the notice of the Office of the Pardon Attorney's “Miscellaneous Correspondence File,” is being published in today's Federal Register.

Therefore, the “Miscellaneous Correspondence File, OPA-002” is removed from the Department's compilation of Privacy Act systems of records.

Dated: October 15, 2002.
Robert F. Diegelman,
Acting Assistant Attorney General for Administration.

[FR Doc. 02-27219 Filed 10-24-02; 8:45 am]

BILLING CODE 4410-29-P